DEPARTMENT OF ENERGY

Federal Energy Regulatory Commission

Combined Notice of Filings

Take notice that the Commission has received the following Natural Gas Pipeline Rate and Refund Report filings:

Docket Numbers: RP20-414-000.

Applicants: Gas Transmission Northwest LLC.

Description: Interruptible Transportation Refund Report for the Coyote Springs Lateral of Gas Transmission Northwest LLC.

Filed Date: 1/7/20.

Accession Number: 20200107-5072.

Comments Due: 5 p.m. ET 1/20/20.

Docket Numbers: RP20-415-000.

Applicants: Rockies Express Pipeline LLC.

Description: § 4(d) Rate Filing: REX 2020-01-07 Negotiated Rate Agreements to be effective 1/8/2020.

Filed Date: 1/7/20.

Accession Number: 20200107-5105.

Comments Due: 5 p.m. ET 1/20/20.

Docket Numbers: RP20-416-000.

Applicants: Enable Mississippi River Transmission, LLC.

Description: § 4(d) Rate Filing: Negotiated Rate Filing—Industrial Steam Product RP18-923 & RP20-131 Settlement to be effective 1/1/2019.

Filed Date: 1/7/20.

Accession Number: 20200107-5109.

Comments Due: 5 p.m. ET 1/20/20.

Docket Numbers: RP20-417-000.

Applicants: Spire STL Pipeline LLC.

Description: Compliance filing Spire STL Order 587-Y NAESB Compliance Filing to be effective 11/18/2019.

Filed Date: 1/8/20.

Accession Number: 20200108-5007.

Comments Due: 5 p.m. ET 1/20/20.

Docket Numbers: RP20-419-000.

Applicants: NEXUS Gas Transmission, LLC.

Description: § 4(d) Rate Filing: Negotiated Rates—Jan 2020 Cleanup to be effective 2/8/2020.

Filed Date: 1/8/20.

Accession Number: 20200108-5009.

Comments Due: 5 p.m. ET 1/20/20.

Docket Numbers: RP20-420-000.

Applicants: Enable Mississippi River Transmission, LLC.

Description: § 4(d) Rate Filing: Negotiated Rate Filing—US Steel RP18-923 & RP20-131 Settlement to be effective 1/1/2019.

Filed Date: 1/8/20.

Accession Number: 20200108-5057.

Comments Due: 5 p.m. ET 1/20/20.

Docket Numbers: RP20-421-000.

Applicants: Equitrans, L.P.

Description: § 4(d) Rate Filing: Negotiated Rate Service Agreements Arsenal Resources Development LLC to be effective 2/1/2020.

Filed Date: 1/8/20.

Accession Number: 20200108-5085.

Comments Due: 5 p.m. ET 1/20/20.

Docket Numbers: RP20-422-000.

Applicants: Rockies Express Pipeline LLC.

Description: § 4(d) Rate Filing: REX 2020-01-08 Negotiated Rate Agreement to be effective 1/9/2020.

Filed Date: 1/8/20.

Accession Number: 20200108-5122.

Comments Due: 5 p.m. ET 1/20/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 9, 2020.
Nathaniel J. Davis, Sr.,
Deputy Secretary.

[FR Doc. 2020-00514 Filed 1-14-20; 8:45 am]

BILLING CODE 6717-01-P